DEPARTMENT OF AGRICULTURE

Forest Service

Plumas County Resource Advisory Committee (RAC)

AGENCY: Forest Service, USDA.

ACTION: Notice of meetings.

SUMMARY: The Plumas County Resource Advisory Committee (RAC) will hold meetings on December 5, in Quincy, California, and another in Blairsden, CA on January 16. The purpose of the December 5 meeting is to review Forest Supervisor decisions related to Cycle 3 approved projects, elect a Chair for 2004, and to plan the Cycle 4 funding process under the Title 2 provisions of the Secure Rural Schools and Community Self-Determination Act of 2000. The purpose of the January 16 meeting is to review presentations by previously funded project proponents and to discuss an on-going monitoring effort for funded projects.

DATES AND ADDRESSES: The December 5 meeting will take place from 9 a.m.-3 p.m., in the Mineral Building at the Plumas-Sierra County Fairgrounds, 204 Fairgrounds Road, Quincy, California. The January 16 meeting will take place from 9 a.m.-2 p.m., at the Graeagle Firehall, 7620 Highway 89, Blairsden, CA.

FOR FURTHER INFORMATION CONTACT: Lee Anne Schramel Taylor, Forest Coordinator, USDA, Plumas National Forest, P.O. Box 11500/159 Lawrence Street, Quincy, CA 95971; (530) 283-7850; or by E-MAIL eataylor@fs.fed.us.

SUPPLEMENTARY INFORMATION: Agenda items for the December 5 meeting include: (1) Report on the CA RAC meeting; (2) 2004 Chair election; (3) Forest Supervisor feedback on Cycle 3 approved projects; (4) Update on forest and fuels initiatives; (5) Discuss stewardship contracting legislation; (6) Update from the Plumas County FireSafe Council; and, (7) Future meeting schedule/logistics/agenda. Agenda items for the January 16 meeting include: (1) Review presentations from previously funded project proponents; (2) Continue discussion on monitoring and stewardship contracting; and, (3) Future meeting schedule/logistics/agenda. The meetings are open to the public and individuals may address the Committee after being recognized by the Chair. Other RAC information may be obtained at http://wwww.fs.fed.us/pay2states.

Dated: November 20, 2003.
David C. Stone,
Ecosystem Staff Officer.

[FR Doc. 03-29868 Filed 12-1-03; 8:45 am]

BILLING CODE 3410-11-M